ENVIRONMENTAL PROTECTION AGENCY

40 CFR Part 50

[EPA-HQ-OAR-2006-0834; FRL-8230-9]

Regulatory Impact Analysis for the Review of the Particulate Matter National Ambient Air Quality Standards

AGENCY: Environmental Protection Agency (EPA).

ACTION: Notice of availability of documents.

SUMMARY: On October 6, 2006, EPA released the Regulatory Impact Analysis (RIA) for the revised particulate matter national ambient air quality standards. This RIA provides EPA's estimates of the range of the monetized human health benefits, control costs, and net benefits associated with meeting the revised suite of standards for fine particles (PM2.5) that are published elsewhere in this issue of the Federal Register, as well as for meeting a more stringent alternative. The final rule established a 24-hour standard of 35 g/m³ and retained the annual standard of 15 g/m³. The EPA also promulgated a final decision to retain the current 24-hour PM10 standards and to revoke the current annual PM10 standards, in order to maintain protection against the health and welfare effects of thoracic coarse particles (PM10−2.5). Data and modeling limitations preclude EPA from assessing the costs and benefits of retaining the existing PM10 24-hour standard.

FOR FURTHER INFORMATION CONTACT: Mr. Ron Evans, Mail Code C439-02, Health and Environmental Impacts Division, Office of Air Quality Planning and Standards, U.S. Environmental Protection Agency, Research Triangle Park, North Carolina 27711, telephone: (919) 541-5488, e-mail: evans.ron@epa.gov.

SUPPLEMENTARY INFORMATION:

A. How Can I Get Copies of This Document and Other Related Information?

1. Docket. The EPA has established a docket for this action under Docket ID No. EPA-HQ-OAR-2006-0834. Publicly available docket materials are available either electronically through www.regulations.gov or in hard copy at the Air and Radiation Docket and Information Center in the EPA Docket Center (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Air and Radiation Docket and Information Center is (202) 566-1742.

2. Electronic Access. You may access this Federal Register document electronically through the EPA Internet under the “Federal Register” listings at http://www.epa.gov/fedrgstr/. The EPA also has posted the RIA on its Web site for particle pollution and the revised PM standards at http://www.epa.gov/pm. Note: The EPA Docket Center suffered damage due to flooding during the last week of June 2006. The Docket Center is continuing to operate. However, during the cleanup, there will be temporary changes to Docket Center telephone numbers, addresses, and hours of operation for people who wish to visit the Public Reading Room to view documents. Consult EPA's Federal Register notice at 71 FR 38147 (July 5, 2006) or the EPA Web site at http://www.epa.gov/epahome/dockets.htm for current information on docket status, locations and telephone numbers.

In setting primary ambient air quality standards, EPA's responsibility under the law is to establish standards that protect public health. The Clean Air Act (CAA) requires EPA, for each criteria pollutant, to set a standard that protects public health with “an adequate margin of safety.” As interpreted by the Agency and the courts, the CAA requires EPA to base this decision on health considerations; economic factors cannot be considered.

Although EPA cannot consider costs in setting the primary air quality standards, consideration of costs and benefits is essential to the efficient implementation of these standards. The impacts of cost, benefits, and efficiency are considered by the States when making decisions regarding what timelines, strategies, and policies make the most sense.

This PM2.5 NAAQS RIA is focused on development and analyses of illustrative control strategies to meet alternative suites of standards in 2020, the latest year by which the CAA generally requires full attainment of the new standards. Because the States are ultimately responsible for implementing strategies to meet the revised standards, the RIA provides insights and analysis of a limited number of illustrative control strategies that States might adopt to meet the revised standards. These strategies are subject to a number of important assumptions, uncertainties and limitations, which EPA documents in the relevant portions of the analysis.

The EPA presents this analysis pursuant to Executive Order 12866 and the guidelines of OMB Circular A-4.¹ These documents present guidelines for EPA to assess the incremental benefits and costs of the selected regulatory approach as well as one less stringent, and one more stringent, option. In this RIA, the 1997 standards represent the less stringent option, and the alternative suite of standards including a tighter annual standard of 14 g/m³ together with the revised 24-hour standard of 35 g/m³ represents the more stringent option.

¹ For a copy of these requirements, see: http://www.whitehouse.gov/OMB/inforeg/eo12866.pdf and http://www.whitehouse.gov/omb/circulars/a004/a-4.html.

Dated: October 5, 2006.
Jeffrey S. Clarke,
Acting Director, Office of Air Quality Planning and Standards.

[FR Doc. E6-17011 Filed 10-16-06; 8:45 am]

BILLING CODE 6560-50-P